DEPARTMENT OF THE TREASURY

Internal Revenue Service

26 CFR Part 1

[TD 9477]

RIN 1545-BI14

Use of Controlled Corporations To Avoid the Application of Section 304; Correction

AGENCY: Internal Revenue Service (IRS), Treasury.

ACTION: Correcting amendment.

SUMMARY: This document contains corrections to final and temporary regulations (TD 9477) that were published in the Federal Register on Wednesday, December 30, 2009 (74 FR 69021) regarding certain transactions that are subject to section 304 but that are entered into with a principal purpose of avoiding the application of section 304 to a corporation that is controlled by the issuing corporation in the transaction, or with a principal purpose of avoiding the application of section 304 to a corporation that controls the acquiring corporation in the transaction.

DATES: These corrections are effective on February 26, 2010 and are applicable on or after December 29, 2009.

FOR FURTHER INFORMATION CONTACT: Sean W. Mullaney, (202) 622-3860 (not a toll free number).

SUPPLEMENTARY INFORMATION:

Background

The final and temporary regulations (TD 9477) that are the subject of these corrections are under section 304 of the Internal Revenue Code.

Need for Correction

As published, the final and temporary regulations (TD 9477) contain an error that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.304-4T is amended by revising paragraph (e) to read as follows:

§ 1.304-4T Special rule for the use of related corporations to avoid the application of section 304 (temporary).

* * * * *

(e) Expiration date. This section expires on or before December 28, 2012.

Diane Williams,
Federal Register Liaison, Publications and Regulations Branch, Legal Processing Division, Associate Chief Counsel (Procedure and Administration).

[FR Doc. 2010-3927 Filed 2-25-10; 8:45 am]

BILLING CODE 4830-01-P